DEPARTMENT OF HOMELAND SECURITY

Coast Guard

33 CFR Part 117

[Docket Number USCG-2020-0034]

RIN 1625-AA09

Drawbridge Operation Regulation; Chicago River, Chicago, IL; Correction

AGENCY: Coast Guard, DHS.

ACTION: Final rule; correction.

SUMMARY: The Coast Guard is correcting a final rule that appeared in the Federal Register on July 30, 2021. The final rule announced changes to the Amtrak Railroad Bridge, mile 3.77, across the South Branch of the Chicago River, at Chicago, Illinois. The rule has an effective date of August 30, 2021. This correction fixes an incorrect amendatory instruction within that final rule that deleted existing regulatory text that should not have been deleted.

DATES: This correction is effective on August 30, 2021.

FOR FURTHER INFORMATION CONTACT: If you have questions on this rule, call or email Mr. Lee D. Soule, Bridge Management Specialist, Ninth Coast Guard District; telephone 216-902-6085, email Lee.D.Soule@uscg.mil.

SUPPLEMENTARY INFORMATION:

Correction

On July 30, 2021 the Coast Guard published a final rule titled “Drawbridge Operation Regulation; Chicago River, Chicago, IL” (86 FR 40957). In this document, FR Doc. 2021-15986, appearing on page 40959, in the first and second columns, the final rule inadvertently deleted what was in paragraph (d) and replaced it with new text. The Coast Guard did not intend to delete the existing text and requirements in 117.391(d). Therefore, we are correcting the final rule to instead add a new paragraph (e) with the same regulatory text as was issued in the final rule and preserve what has been in existing paragraph (d).

On page 40959, in the first column, in part 117, amendatory instruction number 2 is corrected to read as follows:

2. Amend § 117.391 by adding paragraph (e) to read as follows:

§ 117.391 Chicago River.

* * * * *

(e) The Amtrak Bridge, mile 3.77, is authorized to operate remotely and open to the intermediate position on signal, unless a request for a full opening is received by the drawtender. The bridge is required to operate a marine radio.

* * * * *

M. T. Cunningham,
Chief, Office of Regulations and Administrative Law.

[FR Doc. 2021-17103 Filed 8-10-21; 8:45 am]

BILLING CODE 9110-04-P